DEPARTMENT OF COMMERCE

Bureau of Industry and Security

15 CFR Parts 742 and 774

[Docket No. 201002-0264]

RIN 0694-AH80

Identification and Review of Controls for Certain Foundational Technologies; Correction

AGENCY: Bureau of Industry and Security, Commerce.

ACTION: Advance notice of proposed rulemaking (ANPRM); correction and extension of comment period.

SUMMARY: On August 27, 2020, the Bureau of Industry and Security (BIS) published the advance notice of proposed rulemaking (ANPRM), Identification and Review of Controls for Certain Foundational Technologies. This document makes a correction to the August 27 ANPRM to clarify that it is permissible to submit confidential business information in response to the August 27 ANPRM, provided the submitter follows the submission requirements included in the ADDRESSES section of this document. The August 27 ANPRM specified that comments must be received on or before October 26, 2020. This document extends the ANPRM's comment period for fourteen days, so comments must now be received on or before November 9, 2020.

DATES: The comment period for the ANPRM published at 85 FR 52934 on August 27, 2020, is extended. Submit comments on or before November 9, 2020.

ADDRESSES: You may submit comments through either of the following:

• Federal eRulemaking Portal: http://www.regulations.gov. The identification number for this rulemaking is BIS-2020-0029.

All filers using the portal should use the name of the person or entity submitting comments as the name of their files, in accordance with the instructions below. Anyone submitting business confidential information should clearly identify the business confidential portion at the time of submission, file a statement justifying nondisclosure and referring to the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” The “BC” and “P” should be followed by the name of the person or entity submitting the comments or rebuttal comments. Any submissions with file names that do not begin with a “BC” or “P” will be assumed to be public and will be made publicly available through http://www.regulations.gov.

• Address: By mail or delivery to Regulatory Policy Division, Bureau of Industry and Security, U.S. Department of Commerce, Room 2099B, 14th Street and Pennsylvania Avenue NW, Washington, DC 20230. Refer to RIN 0694-AH80. If you seek to submit business confidential information, you must use the portal. BIS does not accept confidential business information by mail or delivery.

FOR FURTHER INFORMATION CONTACT: Tongele Tongele, Office of Nonproliferation and Treaty Compliance, Bureau of Industry and Security, Department of Commerce by: phone (202) 482-0092; fax (202) 482-3355; or email Tongele.Tongele@bis.doc.gov.

SUPPLEMENTARY INFORMATION:

Background

On August 27, 2020, the Bureau of Industry and Security (BIS) published the advance notice of proposed rulemaking (ANPRM), Identification and Review of Controls for Certain Foundational Technologies (85 FR 52934). See the August 27 ANPRM for a description of the scope of this rulemaking and the public comments that are being requested.

Submission of Confidential Business Information and Extension of Public Comment Period

FR Doc. 2020-18910, published in the August 27, 2020, issue of the Federal Register, beginning on page 52934, is corrected by clarifying that it is permissible to submit confidential business information in response to the August 27 ANPRM, provided the submitter follows the submission requirements included in the ADDRESSES section of this document.

The August 27 ANPRM specified that comments must be received on or before October 26, 2020. This document extends the ANPRM's comment period for fourteen days, so comments must now be received on or before November 9, 2020. BIS is extending the comment period to allow commenters that have already submitted comments, or that are interested in submitting comments in response to the August 27 ANPRM, to have additional time to submit confidential business information. Commenters wishing to submit confidential business information must submit both a public version and a business confidential version in accordance with the instructions described in the ADDRESSES section of this document—even if the commenter has already submitted comments in response to the August 27 ANPRM prior to this document.

Matthew S. Borman,
Deputy Assistant Secretary for Export Administration.

[FR Doc. 2020-22443 Filed 10-6-20; 4:15 pm]

BILLING CODE 3510-33-P